DEPARTMENT OF COMMERCE

International Trade Administration

[A-570-970]

Multilayered Wood Flooring From the People's Republic of China: Final Results of Antidumping Duty Administrative Review and New Shipper Review and Final Determination of No Shipments; 2017-2018

AGENCY: Enforcement and Compliance, International Trade Administration, Department of Commerce.

SUMMARY: The Department of Commerce (Commerce) determines that Dalian Qianqiu Wooden Product Co., Ltd., Fusong Jinlong Wooden Group Co., Ltd., Fusong Jinqiu Wooden Product Co., Ltd., and Fusong Qianqiu Wooden Products Co., Ltd. (collectively, Jinlong), Jiangsu Guyu International Trading Co., Ltd. (Guyu), and Muchsee Wood (Chuzhou) Co., Ltd. (Muchsee Wood) have not made sales of multilayered wood flooring (wood flooring) from the People's Republic of China (China) at prices below normal value during the period of review (POR) December 1, 2017 through November 30, 2018. In addition, Commerce determines that certain companies had no shipments during the POR.

DATES: Applicable December 3, 2020.

FOR FURTHER INFORMATION CONTACT: Sergio Balbontin or Alexis Cherry, AD/CVD Operations, Office VIII, Enforcement and Compliance, International Trade Administration, U.S. Department of Commerce, 1401 Constitution Avenue NW, Washington DC 20230; telephone: 202-482-6478 and 202-482-0607, respectively.

SUPPLEMENTARY INFORMATION:

Background

Commerce published the Preliminary Results of the administrative review and new shipper review on February 6, 2020.¹ For the events that occurred since Commerce published the Preliminary Results, see the Issues and Decision Memorandum.² Commerce conducted these reviews in accordance with section 751(a) of the Tariff Act of 1930, as amended (the Act).

¹ See Multilayered Wood Flooring from the People's Republic of China: Preliminary Results of the Antidumping Duty Administrative Review and New Shipper Review, Preliminary Determination of No Shipments, and Rescission of Review, in Part; 2017-2018, 85 FR 6911 (February 6, 2020), and accompanying preliminary decision memorandum (PDM), “Decision Memorandum for the Preliminary Results of Antidumping Duty Administrative Review and New Shipper Review: Multilayered Wood Flooring from the People's Republic of China; 2017-2018.”

² See Memorandum, “Issues and Decision Memorandum: Antidumping Duty Administrative Review and New Shipper Review of Multilayered Wood Flooring from the People's Republic of China; 2017-2018,” dated concurrently with and hereby adopted by this notice (Issues and Decision Memorandum). No interested party submitted comments regarding the new shipper review; therefore, the Issues and Decision Memorandum pertains only to the administrative review.

Commerce tolled all deadlines in administrative reviews by 50 days, thereby extending the deadline for these final results until July 27, 2020.³ On June 5, 2020, we extended the deadline for these final results to September 23, 2020.⁴ On July 21, 2020, Commerce tolled all deadlines in administrative reviews by an additional 60 days.⁵ Accordingly, the revised deadline for the final results of these reviews is now November 23, 2020.

³ See Memorandum, “Tolling of Deadlines for Antidumping and Countervailing Duty Administrative Reviews in Response to Operational Adjustments Due to COVID-19,” dated April 24, 2020. If the new deadline falls on a weekend or a Federal holiday, in accordance with our regulations, the deadline will be moved to the next business day. As the actual (tolled) deadline was Saturday, July 25, 2020, the next business day was Monday, July 27, 2020.

⁴ See Memorandum, “Multilayered Wood Flooring from the People's Republic of China: Extension of Deadline for Final Results of Antidumping Duty Administrative Review and New Shipper Review,” dated June 5, 2020. As the actual (tolled) deadline was Saturday, July 25, 2020, we extended the final results deadline 60 days from this date.

⁵ See Memorandum, “Tolling of Deadlines for Antidumping and Countervailing Duty Administrative Reviews,” dated July 21, 2020.

Scope of the Order ⁶

⁶ See Multilayered Wood Flooring from the People's Republic of China: Notice of Amended Final Affirmative Determination of Sales at Less than Fair Value and Antidumping Duty Order, 76 FR 76690 (December 8, 2011), as amended in Multilayered Wood Flooring from the People's Republic of China: Amended Antidumping and Countervailing Duty Orders, 77 FR 5484 (February 3, 2012) (collectively, Order). See also Multilayered Wood Flooring from the People's Republic of China: Final Clarification of the Scope of the Antidumping and Countervailing Duty Orders, 82 FR 27799 (June 19, 2017).

The product covered by the Order is wood flooring from China. A full description of the scope of the Order is contained in the Issues and Decision Memorandum.

Analysis of Comments Received

All issues raised in the parties' briefs are addressed in the Issues and Decision Memorandum. A list of these issues is attached to this notice.⁷ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/index.html. The signed Issues and Decision Memorandum and electronic version of the Issues and Decision Memorandum are identical in content.

⁷ See Appendix I.

Changes From the Preliminary Results

Based on our analysis of the comments received, Commerce made certain revisions to the calculations of the rates assigned to Jinlong, Guyu, and the non-examined, separate rate respondents. The Issues and Decision Memorandum contains descriptions of these revisions.

Final Determination of No Shipments

In the Preliminary Results, Commerce determined that certain companies did not have shipments of subject merchandise during the POR. As we received no information to contradict our preliminary determination with respect to those companies, we continue to find that they made no shipments of subject merchandise to the United States during the POR. Based on information received since the Preliminary Results, we determine that one additional company, Guangzhou Homebon Timber Manufacturing Co., Ltd., also did not have shipments during the POR.⁸ We will issue appropriate instructions that are consistent with our “automatic assessment” clarification for all of the companies listed in Appendix II.⁹

⁸ See Issues and Decision Memorandum at Comment 11.

⁹ See Non-Market Economy Antidumping Proceedings: Assessment of Antidumping Duties, 76 FR 65694 (October 24, 2011) (Assessment Notice); see also “Assessment Rates” section below.

Separate Rates

In the Preliminary Results, we determined that Jinlong, Guyu, Muchsee Wood, and several additional companies who were not selected for individual review demonstrated their eligibility for separate rates, and we continue to do so in these final results.¹⁰

¹⁰ See Preliminary Results, and Preliminary Decision Memorandum at the “Separate Rates” section; see also Issues and Decision Memorandum at Comment 5.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}” Accordingly, Commerce's usual practice in determining the rate for separate-rate respondents not selected for individual examination, has been to average the weighted-average dumping margins for the selected companies, excluding rates that are zero, de minimis, or based entirely on facts available.¹¹ However, when the weighted-average dumping margins established for all individually investigated respondents are zero, de minimis, or based entirely on facts available, section 735(c)(5)(B) of the Act permits Commerce to “use any reasonable method to establish the estimated all-others rate for exporters and producers not individually investigated, including averaging the estimated weighted average dumping margins determined for the exporters and producers individually investigated.” ¹²

¹¹ See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

¹² See Albemarle Corp. v. United States, 821 F.3d 1345 (Fed. Cir. 2016).

For the final results of this review, we continue to determine the estimated dumping margin for each of the individually examined respondents to be zero. Thus, consistent with the Preliminary Results, we assigned to all eligible non-selected respondents the zero margin assigned to Jinlong and Guyu.¹³

¹³ See Preliminary Results, and accompanying Preliminary Decision Memorandum at 17.

The China-Wide Entity

Aside from the companies for which we made a final no shipment determination, Commerce considers all other companies for which a review was requested and which did not demonstrate separate rate eligibility to be part of the China-wide entity.¹⁴ For the final results of this administrative review, we consider 17 companies to be part of the China-wide entity.

¹⁴ See Appendix III.

Final Results of Administrative Review

For the companies subject to this administrative review, including the companies that established their eligibility for a separate rate, Commerce determines that the following weighted-average dumping margins exist for the period December 1, 2017, through November 30, 2018:

Producer/exporter | Weighted- average dumping margin (percent)
Dalian Qianqiu Wooden Product Co., Ltd./Fusong Jinlong Wooden Group Co., Ltd./Fusong Jinqiu Wooden Product Co., Ltd./Fusong Qianqiu Wooden Products Co., Ltd. (Jinlong) ¹⁵ | 0.00
Jiangsu Guyu International Trading Co., Ltd | 0.00
Non-Selected Companies Under Review Receiving a Separate Rate ¹⁶ | 0.00

Final Results of New Shipper Review

¹⁵ See Issues and Decision Memorandum at “Section IV. Affiliation and Single Entity.”

¹⁶ See Appendix IV.

Commerce determines that the following weighted-average dumping margin exists for the new shipper review covering the period December 1, 2017 through November 30, 2018:

Producer/exporter | Weighted- average dumping margin (percent)
Muchsee Wood (Chuzhou) Co., Ltd | 0.00

We intend to disclose the calculations performed within five days of the date of publication of this notice to parties in this proceeding, in accordance with 19 CFR 351.224(b).

Assessment Rates

Pursuant to section 751(a)(2)(C) of the Act and 19 CFR 351.212(b), Commerce will determine, and U.S. Customs and Border Protection (CBP) shall assess, antidumping duties on all appropriate entries of subject merchandise in accordance with the final results of these reviews. We intend to issue assessment instructions to CBP 15 days after the date of publication of these final results.

For Jinlong, Guyu, and Muchsee Wood, each of which have a weighted-average dumping margin of zero, we will instruct CBP to liquidate the appropriate entries without regard to antidumping duties. For entries that were not reported in the U.S. sales databases submitted by the companies individually examined during these reviews, and for the companies that did not qualify for a separate rate in the administrative review, Commerce will instruct CBP to liquidate such entries at the China-wide rate (i.e., 85.13 percent).¹⁷ For the respondents which were not selected for individual examination in this administrative review and which qualified for a separate rate, we will also instruct CBP to liquidate the appropriate entries without regard to antidumping duties.

¹⁷ See Multilayered Wood Flooring from the People's Republic of China: Final Results of Antidumping Duty Administrative Review and Final Determination of No Shipments; 2016-2017, 84 FR 38002, 38003 (August 5, 2019).

Consistent with Commerce's assessment practice in non-market economy cases, for the companies which Commerce determined had no shipments of the subject merchandise, any suspended entries made under those exporters' case numbers (i.e., at the exporters' rates) will be liquidated at the China-wide rate.¹⁸

¹⁸ For a full discussion of this practice see Assessment Notice.

Cash Deposit Requirements

The following cash deposit requirements will be effective upon publication of these final results of administrative and new shipper reviews for shipments of the subject merchandise from China entered, or withdrawn from warehouse, for consumption on or after the publication date, as provided by sections 751(a)(2)(C) of the Act: (1) For companies which have a separate rate, the cash deposit rate will be zero; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

This determination is issued and published in accordance with sections 751(a)(1) and 777(i)(1) of the Act and 19 CFR 351.221(b)(5).

Dated: November 20, 2020.
Joseph A. Laroski Jr.,
Deputy Assistant Secretary for Policy and Negotiations.

Appendix I

List of Topics Discussed in the Issues and Decision Memorandum

1. Summary

2. Background

3. Scope of the Order

4. Affiliation and Single Entity

5. Changes from the Preliminary Results

6. Discussion of the Issues

General Issues

Comment 1: Whether to Revise the Surrogate Financial Ratios

Comment 2: Whether to Revise the Surrogate Value for Labor

Comment 3: Whether to Revise the Surrogate Value for Inland Freight

Comment 4: Whether to Revise the Surrogate Value for Glue

Guyu Issues

Comment 5: Whether to Continue to Assign a Separate Rate to Guyu

Comment 6: Whether to Revise the Surrogate Value for Thinner

Comment 7: Whether to Revise the Surrogate Value for Aluminum Paste

Non-Selected Company Issues

Comment 8: Whether Commerce Should Have Selected Senmao as a Voluntary Respondent

Comment 9: Whether to Rescind the Administrative Review as to Baroque

Comment 10: Whether Certain Companies Filed Proper No Shipment Certifications

Comment 11: Whether Homebon Had Shipments

Comment 12: Whether to Continue to Apply a Zero Dumping Margin to the Separate Rate Companies

7. Recommendation

Appendix II

No Shipments

Anhui Yaolong Bamboo & Wood Products Co. Ltd.

Armstrong Wood Products (Kunshan) Co., Ltd.

Baroque Timber Industries (Zhongshan) Co., Ltd.

Benxi Flooring Factory (General Partnership)

Changzhou Hawd Flooring Co., Ltd.

Dunhua City Jisen Wood Industry Co., Ltd.

Fine Furniture (Fine Furniture (Shanghai) Limited and Double F Limited) ¹⁹

¹⁹ Commerce is only reviewing entries where Fine Furniture (Shanghai) Limited and/or Double F Limited was the exporter but Fine Furniture (Shanghai) Limited was not the producer of subject merchandise.

Guangzhou Homebon Timber Manufacturing Co., Ltd.

Guangzhou Panyu Kangda Board Co., Ltd.

Hangzhou Zhengtian Industrial Co., Ltd.

Hunchun Forest Wolf Wooden Industry Co., Ltd.

Huzhou Jesonwood Co., Ltd.

Innomaster Home (Zhongshan) Co., Ltd.

Jiangsu Yuhui International Trade Co., Ltd.

Jiashan On-Line Lumber Co., Ltd.

Kingman Floors Co., Ltd.

Linyi Anying Wood Co., Ltd.

Shandong Longteng Wood Co., Ltd.

Shanghaifloor Timber (Shanghai) Co., Ltd.

Xuzhou Antop International Trade Co., Ltd.

Yingyi-Nature (Kunshan) Wood Industry Co., Ltd.

Zhejiang Shuimojiangnan New Material Technology Co., Ltd.

Appendix III

China-Wide Entity

Anhui Boya Bamboo & Wood Products Co., Ltd.

Chinafloors Timber (China) Co., Ltd.

Dalian Guhua Wooden Product Co., Ltd.

Dalian Huade Wood Product Co., Ltd.

Dalian Huilong Wooden Products Co., Ltd.

Dalian Jaenmaken Wood Industry Co., Ltd.

Houzhou Chenchang Wood Co., Ltd.

Jiafeng Wood (Suzhou) Co., Ltd.

Linyi Bonn Flooring Manufacturing Co., Ltd.

Power Dekor North America Inc.

Shanghai Lairunde Wood Co., Ltd.

Shenzhenshi Huanwei Woods Co., Ltd.

Xiamen Yung De Ornament Co., Ltd.

Zhejiang Biyork Wood Co., Ltd.

Zhejiang Fudeli Timber Industry Co., Ltd

>Zhejiang Jiechen Wood Industry Co., Ltd.

Zhejiang Simite Wooden Co., Ltd.

Appendix IV

Non-Selected Companies Under Review Receiving a Separate Rate

A&W (Shanghai) Woods Co., Ltd.

Anhui Longhua Bamboo Product Co., Ltd.

Benxi Wood Company

Dalian Dajen Wood Co., Ltd.

Dalian Deerfu Wooden Product Co., Ltd.

Dalian Jiahong Wood Industry Co., Ltd.

Dalian Kemian Wood Industry Co., Ltd.

Dalian Penghong Floor Products Co., Ltd.

Dalian Shengyu Science And Technology Development Co., Ltd.

Dalian Shumaike Floor Manufacturing Co., Ltd.

Dalian T-Boom Wood Products Co., Ltd.

Dongtai Fuan Universal Dynamics, LLC

Dunhua City Dexin Wood Industry Co., Ltd.

Dunhua City Hongyuan Wood Industry Co., Ltd.

Dunhua City Wanrong Wood Industry Co., Ltd.

Dun Hua Sen Tai Wood Co., Ltd.

Dunhua Shengda Wood Industry Co., Ltd.

Guangzhou Panyu Southern Star Co., Ltd.

HaiLin LinJing Wooden Products, Ltd.

Hangzhou Hanje Tec Company Limited

Hunchun Xingjia Wooden Flooring Inc.

Huzhou Chenghang Wood Co., Ltd

Huzhou Fulinmen Imp. & Exp. Co., Ltd.

Huzhou Sunergy World Trade Co., Ltd.

Jiangsu Keri Wood Co., Ltd.

Jiangsu Mingle Flooring Co., Ltd

Jiangsu Senmao Bamboo and Wood Industry Co., Ltd.

Jiangsu Simba Flooring Co., Ltd.

Jiashan HuiJiaLe Decoration Material Co., Ltd.

Jiaxing Hengtong Wood Co., Ltd.

Jilin Xinyuan Wooden Industry Co., Ltd.

Karly Wood Product Limited

Kember Flooring, Inc.

Kemian Wood Industry (Kunshan) Co., Ltd.

Lauzon Distinctive Hardwood Flooring, Inc.

Linyi Youyou Wood Co., Ltd.

Metropolitan Hardwood Floors, Inc.

Mudanjiang Bosen Wood Industry Co., Ltd.

Nakahiro Jyou Sei Furniture (Dalian) Co., Ltd.

Omni Arbor Solution Co., Ltd.²⁰

²⁰ In the Preliminary Results, Commerce inadvertently identified this company as “Omni Arbor Solutions Co., Ltd.” See Letters from Omni Arbor Solution Co., Ltd., “Multilayered Wood Flooring from the People's Republic of China Request for Review,” dated December 31, 2018, and “Multilayered Wood Flooring from China: Case Brief—Omni Arbor Solution Co., Ltd.,” dated March 10, 2020.

Pinge Timber Manufacturing (Zhejiang) Co., Ltd.

Power Dekor Group Co., Ltd.

Scholar Home (Shanghai) New Material Co., Ltd.

Shenyang Haobainian Wooden Co., Ltd.

Sino-Maple (Jiangsu) Co., Ltd.

Suzhou Dongda Wood Co., Ltd.

Tongxiang Jisheng Import and Export Co., Ltd.

Xuzhou Shenghe Wood Co., Ltd.

Yekalon Industry Inc.

Yihua Lifestyle Technology Co., Ltd. (successor-in-interest to Guangdong Yihua Timber Industry Co., Ltd.)

Zhejiang Dadongwu Green Home Wood Co., Ltd.

Zhejiang Fuerjia Wooden Co., Ltd

Zhejiang Longsen Lumbering Co., Ltd.

Zhejiang Shiyou Timber Co., Ltd.

[FR Doc. 2020-26330 Filed 12-2-20; 8:45 am]

BILLING CODE 3510-DS-P